DEPARTMENT OF LABOR

Employment and Training Administration

[TA-W-53,993]

Newell Rubbermaid, Inc. Wooster, OH; Notice of Negative Determination on Reconsideration

On April 2, 2004, the United Steelworkers of America, Local 302L, requested administrative reconsideration of the Department's negative determination regarding the workers of Newell Rubbermaid, Inc., Wooster, Ohio. On May 3, 2004, the Department issued an Affirmative Determination Regarding Application for Reconsideration for the workers and former workers of the subject firm. The notice was published in the Federal Register on May 13, 2004 (69 FR 26621). The workers at the subject firm produce plastic household goods and home organization products (totes, refuse and clear containers) and are not separately identifiable by product line.

The Department denied the initial petition because the “contributed importantly” and shift of production group eligibility requirements of Section 222(3) of the Trade Act of 1974, as amended, were not met. The initial investigation revealed that increased imports of plastic household goods and home organization products during the relevant time period did not contribute importantly to worker separations and that the subject company did not shift production abroad.

In the request for reconsideration, the union asserted that the customer survey conducted in the initial investigation identified the wrong products to be surveyed. The initial customer survey covered plastic household goods, including totes, refuse and clear containers. The union states that the subject facility “primarily produces totes and clear storage containers * * * along with refuse containers.”

On reconsideration, the Department contacted the company for clarification concerning the types of goods produced at the subject facility and whether the product lines were separately identifiable. A company official explained that they do not separate workers by lines (such as totes and refuse and clear containers) since the machines could run almost any product line produced by the plant workers and thus the subject workers are not separately identifiable by product line. Therefore, the survey conducted by the U.S. Department of Labor aggregated all products produced by the Wooster, Ohio plant as “Rubber Maid Home Products (plastic household goods)” in order to reflect the products produced by the subject plant.

Conclusion

After reconsideration, I affirm the original notice of negative determination of eligibility to apply for worker adjustment assistance for workers and former workers of Newell Rubbermaid, Inc., Wooster, Ohio.

Signed at Washington, DC, this 26th day of May, 2004.
Elliott S. Kushner,
Certifying Officer, Division of Trade Adjustment Assistance.

[FR Doc. 04-12877 Filed 6-7-04; 8:45 am]

BILLING CODE 4510-30-P